NUCLEAR REGULATORY COMMISSION

Request for a License To Export Radioactive Waste

Pursuant to 10 CFR 110.70 (b) “Public Notice of Receipt of an Application,” please take notice that the Nuclear Regulatory Commission (NRC) has received the following request to amend an export license. Copies of the request are available electronically through ADAMS and can be accessed through the Public Electronic Reading Room (PERR) link http://www.nrc.gov/reading-rm.html at the NRC Homepage.

A request for a hearing or petition for leave to intervene may be filed within thirty days after publication of this notice in the Federal Register. Any request for hearing or petition for leave to intervene shall be served by the requestor or petitioner upon the applicant, the office of the General Counsel, U.S. Nuclear Regulatory Commission, Washington, DC 20555; the Secretary, U.S. Nuclear Regulatory Commission, Washington, DC 20555; and the Executive Secretary, U.S. Department of State, Washington, DC 20520.

A request for a hearing or petition for leave to intervene may be filed with the NRC electronically in accordance with NRC's E-Filing rule promulgated in August 2007, 72 FR 49139 (Aug. 28, 2007). Information about filing electronically is available on the NRC's public Web site at http://www.nrc.gov/site-help/e-submittals.html. To ensure timely electronic filing, at least 5 (five) days prior to the filing deadline, the petitioner/requestor should contact the Office of the Secretary by e-mail at HEARINGDOCKET@NRC.GOV, or by calling (301) 415-1677, to request a digital ID certificate and allow for the creation of an electronic docket.

In addition to a request for hearing or petition for leave to intervene, written comments, in accordance with 10 CFR 110.81, should be submitted within thirty (30) days after publication of this notice in the Federal Register to Office of the Secretary, U.S. Nuclear Regulatory Commission, Washington, DC 20555, Attention: Rulemaking and Adjudications

The information concerning this application to amend an export license follows.

NRC Export License Application
Name of applicant date of application date received application No. docket No. | Desscription of material: Material type | Desscription of material: Total quantity | Desscription of material: End use | Desscription of material: Recipient country
Duratek Services, Inc., August 17, 2011, August 18, 2011, XW010/02, 11005620 | Class A radioactive waste in the form of radioactively contaminated materials including metals, dry activity material (such as wood, paper, and plastic) and liquids (such as aqueous and organic based fluids) | Radionuclide reallocation: Amend to: (1) Reduce the total activity of C-14, Am-241 and Fe-55 by 25.35 TBq (2) Increase the total activity of H-3 by 22.20 TBq | Non-conforming materials (imported under IW017) that cannot be processed will be returned to Canada for disposition | Canada.

Dated this 6th day of September 2011 at Rockville, Maryland.
For the Nuclear Regulatory Commission.
Scott W. Moore,
Deputy Director, Office of International Programs.

[FR Doc. 2011-23366 Filed 9-12-11; 8:45 am]

BILLING CODE 7590-01-P